COMMISSION ON THE FUTURE OF THE UNITED STATES AEROSPACE INDUSTRY

Public Meeting

AGENCY: Commission on the Future of the United States Aerospace Industry.

ACTION: Notice.

SUMMARY: The purpose of the meeting is to hear testimony from the Congressional sponsors of the Commission and Administration and Federal Agency officials regarding their priorities for the Commission and views on the future of aerospace. The Commissioners will then deliberate based on the testimony and extensive information previously received from the public and industry. They will decide on the scope and priorities of the Commission's year-long effort and identify initial studies, products and contents.

Section 1092 of the Floyd D. Spence National Defense Authorization Act for Fiscal Year 2001 (Pub. L. 106-398) established the Commission on the Future of the United States Aerospace Industry to study the issues associated with the future of the United States national security; and assess the future importance of the domestic aerospace industry for the economic and national security of the United States. The Commission is governed by the provisions of the Federal Advisory Committee Act, Pub. L. 92-463, as amended (5 U.S.C. Appendix 2), which sets forth standards for the formation of advisory committees and implementing regulations (41 CFR subpart 101-6.10). All interested parties are welcome to submit written comments at any time.

TIME AND DATE: Tuesday, November 27, 2001; 8:30 a.m. to 5:30 p.m.

ADDRESS: Department of Commerce Auditorium, 14th Street and Constitution Avenue, NW., Washington, DC 20230.

FOR FURTHER INFORMATION CONTACT: Cindy Waters, 1235 Jefferson Davis Highway, Suite 940; Arlington, Virginia 22202; phone 703-602-1515; e-mail watersc@osd.pentagon.mil.

Dated: November 1, 2001.
Charles H. Huettner,
Executive Director, Commission on the Future of the United States Aerospace Industry.

[FR Doc. 01-27955 Filed 11-6-01; 8:45 am]

BILLING CODE 6820-WP-P